SMALL BUSINESS ADMINISTRATION

Senior Executive Service: Performance Review Board Members

AGENCY: U.S. Small Business Administration.

ACTION: Notice of Members for the FY 15 Performance Review Board.

SUMMARY: Section 4314(c)(4) of Title 5, U.S.C.; requires each agency to publish notification of the appointment of individuals who may serve as members of that Agency's Performance Review Board (PRB). The following individuals have been designated to serve on the FY 15 Performance Review Board for the U.S. Small Business Administration:

1. Robert Hill (Chair), Associate Administrator, Field Operations

2. Nicholas Coutsos, Associate Administrator, Congressional and Legislative Affairs

3. Isabella Guzman, Senior Advisor to the Administrator

4. James Rivera, Associate Administrator for Disaster Assistance

5. John Klein, Assistant General Counsel for Procurement

6. Renee Macklin, Chief Information Officer

7. Francisco Marrero, District Director, South Florida

Maria Contreras-Sweet,
Administrator.

[FR Doc. 2014-26039 Filed 10-31-14; 8:45 am]

BILLING CODE P